DEPARTMENT OF COMMERCE

International Trade Administration

[Application No. 97-13A03]

Export Trade Certificate of Review

ACTION: Notice of Application for an Amended Export Trade Certificate of Review by Association for the Administration of Rice Quotas, Inc. (“AARQ”), Application No. 97-13A03.

SUMMARY: The Secretary of Commerce, through the International Trade Administration, Office of Trade and Economic Analysis (OTEA), has received an application for an amended Export Trade Certificate of Review (“Certificate”) from AARQ. This notice summarizes the proposed amendment and seeks public comments on whether the amended Certificate should be issued.

FOR FURTHER INFORMATION CONTACT: Joseph E. Flynn, Director, Office of Trade and Economic Analysis, International Trade Administration, by telephone at (202) 482-5131 (this is not a toll-free number) or email at etca@trade.gov.

SUPPLEMENTARY INFORMATION: Title III of the Export Trading Company Act of 1982 (15 U.S.C. Sections 4001-21) authorizes the Secretary of Commerce to issue Export Trade Certificates of Review. An Export Trade Certificate of Review protects the holder and the members identified in the Certificate from State and Federal government antitrust actions and from private treble damage antitrust actions for the export conduct specified in the Certificate and carried out in compliance with its terms and conditions. The regulations implementing Title III are found at 15 CFR part 325 (2016). Section 302(b)(1) of the Export Trading Company Act of 1982 and 15 CFR 325.6(a) require the Secretary to publish a notice in the Federal Register identifying the applicant and summarizing its application. Under 15 CFR 325.6 (a), interested parties may, within twenty days after the date of this notice, submit written comments to the Secretary through OTEA on the application.

Request For Public Comments: Interested parties may submit written comments relevant to the determination whether an amended Certificate should be issued. If the comments include any privileged or confidential business information, it must be clearly marked and a nonconfidential version of the comments (identified as such) should be included. Any comments not marked as privileged or confidential business information will be deemed to be nonconfidential.

An original and five (5) copies, plus two (2) copies of the nonconfidential version, should be submitted no later than 20 days after the date of this notice to: Office of Trade and Economic Analysis, International Trade Administration, U.S. Department of Commerce, Room 21028, Washington, DC 20230.

Information submitted by any person is exempt from disclosure under the Freedom of Information Act (5 U.S.C. 552). However, nonconfidential versions of the comments will be made available to the applicant if necessary for determining whether or not to issue the amended Certificate. Comments should refer to this application as “Export Trade Certificate of Review, application number 97-13A03.”

Summary of the Application

Applicant: Association for the Administration of Rice Quotas, Inc.

Contact: c/o Matthew R. Elkin and Peter G. Mattocks, Morgan Lewis & Bockius LLP, 2020 K Street NW., Washington DC 20006.

Application No.: 97-13A03.

Date Deemed Submitted: January 11, 2016.

AARQ seeks to amend its Certificate by making the following changes to the list of Members covered by the Certificate:

1. Deleting the following Members from its Certificate:

a. Family & Sons, Inc., Miami, Florida

b. Noble Logistics USA, Inc., Portland Oregon

c. Rickmers Rice USA, Inc., Knoxville, Tennessee

d. Texana Rice, Inc., Louise, Texas

2. Changing Nishimoto Trading Co., Ltd., Santa Fe Springs, California (a subsidiary of Nishimoto Trading Company, Ltd. (Japan) to Nishimoto Trading Co., Ltd. dba Wismettac Asian Foods, Santa Fe Springs, California (a subsidiary of Nishimoto Trading Company, Ltd. (Japan)

3. Changing PS International, LLC dba PS International Ltd., Chapel Hill, North Carolina (jointly owned by Seaboard Corporation, Kansas City Missouri and PS Trading Inc., Chapel Hill, North Carolina) to Interra International, LLC, Chapel Hill, North Carolina

4. Changing TRC Trading Corporation, Roseville, California (a subsidiary of TRC Group Inc., Roseville, California) and its subsidiary Gulf Rice Arkansas II, LLC, Houston, Texas to TRC Trading Corporation, Roseville, California (a subsidiary of TRC Group Inc., Roseville, California) and its subsidiary Gulf Rice Arkansas II, LLC, Crawfordsville, Arkansas

5. Changing Veetee Rice, Inc., Great Neck, New York (a subsidiary of Veetee Investments Corporation (Bahamas)) to Veetee Foods Inc., Islandia, New York (a subsidiary of Veetee Investments Corporation (Bahamas))

AARQ's proposed amendment of its Export Trade Certificate of Review would result in the following entities as Members under the Certificate:

1. ADM Latin, Inc., Decatur, Illinois, ADM Grain Company, Decatur, Illinois, and ADM Rice, Inc., Tarrytown, New York (subsidiaries of Archer Daniels Midland Company)

2. American Commodity Company, LLC, Williams, California

3. Associated Rice Marketing Cooperative (ARMCO), Richvale, California

4. Bunge Milling, Saint Louis, Missouri (a subsidiary of Bunge North America, White Plains, New York), dba PIRMI (Pacific International Rice Mills), Woodland, California

5. Cargill Americas, Inc., and its subsidiary CAI Trading, LLC, Coral Gables, Florida

6. Farmers' Rice Cooperative, Sacramento, California

7. Farmers Rice Milling Company, Inc., Lake Charles, Louisiana

8. Far West Rice, Inc., Durham, California

9. Gulf Pacific Rice Co., Inc., Houston, Texas; Gulf Rice Milling, Inc., Houston, Texas; and Harvest Rice, Inc., McGehee, Arkansas (each a subsidiary of Gulf Pacific, Inc., Houston, Texas)

10. Gulf Pacific Disc, Inc., Houston, Texas

11. Itochu International Inc., Portland, Oregon (a subsidiary of Itochu Corporation (Japan))

12. JFC International Inc., Los Angeles, California (a subsidiary of Kikkoman Corp.)

13. JIT Products, Inc., Davis, California

14. Kennedy Rice Dryers, L.L.C., Mer Rouge, Louisiana

15. Kitoku America, Inc., Burlingame, California (a subsidiary of Kitoku Shinryo Co., Ltd. (Japan))

16. LD Commodities Rice Merchandising LLC, Wilton, Connecticut, and LD Commodities Interior Rice Merchandising LLC, Kansas City, Missouri (subsidiaries of Louis Dreyfus Commodities LLC, Wilton, Connecticut)

17. Louisiana Rice Mill, LLC, Mermentau, Louisiana

18. Nidera US LLC, Wilton, Connecticut (a subsidiary of Nidera BV (Netherlands))

19. Nishimoto Trading Co., Ltd. dba Wismettac Asian Foods, Santa Fe Springs, California (a subsidiary of Nishimoto Trading Company, Ltd. (Japan)

20. Producers Rice Mill, Inc., Stuttgart, Arkansas

21. Interra International, LLC, Chapel Hill, North Carolina

22. Riceland Foods, Inc., Stuttgart, Arkansas

23. Riviana Foods Inc., Houston, Texas (a subsidiary of Ebro Foods, S.A. (Spain)), for the activities of itself and its subsidiary, American Rice, Inc., Houston, Texas

24. Sinamco Trading Inc., Minneapolis, Minnesota

25. SunFoods LLC, Woodland, California

26. SunWest Foods, Inc., Davis, California

27. The Sun Valley Rice Co., LLC, Arbuckle, California

28. TRC Trading Corporation, Roseville, California (a subsidiary of TRC Group Inc., Roseville, California) and its subsidiary Gulf Rice Arkansas II, LLC, Crawfordsville, Arkansas

29. Veetee Foods Inc., Islandia, New York (a subsidiary of Veetee Investments Corporation (Bahamas))

30. Wehah Farm, Inc., dba Lundberg Family Farms, Richvale, California

Dated: January 20, 2016.
Joseph Flynn,
Director, Office of Trade and Economic Analysis, International Trade Administration.

[FR Doc. 2016-01570 Filed 1-25-16; 8:45 am]

BILLING CODE 3510-DR-P